DEPARTMENT OF HEALTH AND HUMAN SERVICES

Meeting of the Advisory Committee on Minority Health; Correction

AGENCY: Office of Minority Health, Office of the Secretary, Department of Health and Human Services.

ACTION: Notice; correction.

SUMMARY: The Office of the Assistant Secretary for Health published a document in the Federal Register of August 8, 2019, announcing the Advisory Committee on Minority Health's public meeting. The document includes supplementary information on the topic of the meeting that is now incorrect due to the more specific focus on strategies to address HIV-related health disparities among racial and ethnic minority populations to inform efforts related to the federal Ending the HIV Epidemic Initiative.

FOR FURTHER INFORMATION CONTACT: Violet Woo, Designated Federal Officer, Advisory Committee on Minority Health, Office of Minority Health, Department of Health and Human Services, Tower Building, 1101 Wootton Parkway, Suite 600, Rockville, Maryland 20852. Phone: 240-453-2882; fax: 240-453-2883; email OMH-ACMH@hhs.gov.

SUPPLEMENTARY INFORMATION:

Correction

In the Federal Register of August 8, 2019, in FR Doc. 2019-16969, on page 38999, in the second column, replace the second paragraph under Supplementary Information to read: The topics to be discussed during this meeting will include strategies to address HIV-related health disparities among racial and ethnic minority populations. The recommendations will be given to the Deputy Assistant Secretary for Minority Health to inform efforts related to the federal Ending the HIV Epidemic Initiative.

Dated: August 8, 2019.
Violet Woo,
Designated Federal Officer, Advisory Committee on Minority Health.

[FR Doc. 2019-17560 Filed 8-14-19; 8:45 am]

BILLING CODE 4150-29-P